DEPARTMENT OF COMMERCE

International Trade Administration

[A-475-818, A-489-805]

Certain Pasta from Italy and Turkey: Extension of Preliminary Results of 2002/2003 Antidumping Duty Administrative Reviews

AGENCY: Import Administration, International Trade Administration, Department of Commerce.

EFFECTIVE DATE: March 17, 2004.

FOR FURTHER INFORMATION CONTACT: Alicia Kinsey at (202) 482-4793, Office of AD/CVD Enforcement VI, Group II, Import Administration, International Trade Administration, U.S. Department of Commerce, 14th Street and Constitution Ave, NW., Washington, DC 20230.

Time Limits

Statutory Time Limits

Section 751(a)(3)(A) of the Tariff Act of 1930, as amended (the Act), requires the Department to issue the preliminary results of a review within 245 days after the last day of the anniversary month of an order/finding for which a review is requested and the final results within 120 days after the date on which the preliminary results are published. However, if it is not practicable to complete the review within that time period, section 751(a)(3)(A) of the Act allows the Department to extend the time limit for the preliminary results to a maximum of 365 days and for the final results to 180 days (or 300 days if the Department does not extend the time limit for the preliminary results) from the date of the publication of the preliminary results.

Background

On August 22, 2003, the Department published a notice of initiation of the administrative reviews of the antidumping duty orders on certain pasta from Italy and Turkey, covering the period July 1, 2002 to June 30, 2003 (68 FR 50750). The preliminary results are currently due no later than April 1, 2004.

Extension of Preliminary Results of Reviews

As a consequence of the number of respondents in these reviews, the Department has not had an opportunity to consider sales-below-cost allegations against eight of the respondents or schedule verifications. We therefore determine that it is not practicable to complete the preliminary results of these reviews within the original time limits, and we are extending the time limits for completion of the preliminary results until no later than July 29, 2004. See Decision Memorandum from Melissa Skinner to Holly A. Kuga, dated March 10, 2004, which is on file in the Central Records Unit, Room B-099 of the main Commerce Building. We intend to issue the final results no later than 120 days after the publication of the notice of preliminary results of these reviews.

This extension is in accordance with section 751(a)(3)(A) of the Act.

Dated: March 10, 2004.
Holly A. Kuga,
Acting Deputy Assistant Secretary, Import Administration.

[FR Doc. 04-6018 Filed 3-16-04; 8:45 am]

BILLING CODE 3510-DS-P